DEPARTMENT OF DEFENSE

Department of the Navy

Notice of Intent To Prepare the Commonwealth of the Northern Mariana Islands Joint Military Training Environmental Impact Statement/Overseas Environmental Impact Statement

AGENCY: Department of the Navy, DoD.

ACTION: Notice of intent.

SUMMARY: Pursuant to section (102)(2)(c) of the National Environmental Policy Act (NEPA) of 1969, as implemented by the Council on Environmental Quality Regulations (40 Code of Federal Regulations parts 1500-1508), and Executive Order 12114, and United States (U.S.) Marine Corps NEPA implementing regulations in Marine Corps Order P5090.2A, Marine Corps Forces, Pacific (MARFORPAC), as the Executive Agent designated by the U.S. Pacific Command (PACOM), announces its intent to prepare an Environmental Impact Statement (EIS)/Overseas EIS (OEIS) to evaluate the potential impacts associated with preliminary alternatives for meeting PACOM Service Components' unfilled unit level and combined level military training requirements in the Western Pacific. The proposed action is to establish a series of live-fire and maneuver Ranges and Training Areas (RTAs) within the Commonwealth of the Northern Mariana Islands (CNMI) to meet this purpose.

Existing Department of Defense (DoD) RTAs and support facilities in the Western Pacific, particularly those in the Mariana Islands, are insufficient to support PACOM Service Components' U.S. Code (U.S.C.) Title 10 training requirements for the region. The expansion of existing RTAs and construction of new RTAs will satisfy identified training deficiencies for PACOM forces that are based in or regularly train in the CNMI. These RTAs will be available to U.S. forces and their allies on a continuous and uninterrupted schedule. These RTAs are needed to support ongoing operational requirements, changes to U.S. force structure and geographic positioning of forces, and U.S. training relationships with allied nations.

MARFORPAC, as the Executive Agent, has invited the Federal Aviation Administration (FAA); International Broadcasting Bureau (IBB); U.S. Army Corps of Engineers; National Marine Fisheries Service; U.S. Fish and Wildlife Service; and U.S. Department of Interior, Office of Insular Affairs, to participate as cooperating agencies in the preparation of the EIS/OEIS. MARFORPAC has also developed a Memorandum of Understanding with the military services regarding their support and engagement in the development of the EIS/OEIS.

MARFORPAC encourages governmental agencies, private-sector organizations, and the general public to participate in the NEPA process for the EIS/OEIS. MARFORPAC is initiating the scoping process for the EIS/OEIS with this Notice of Intent (NOI). Scoping assists MARFORPAC in identifying community concerns and specific issues to be addressed in the EIS/OEIS. All interested parties are invited to attend the scoping meetings and are encouraged to provide comments. MARFORPAC will consider these comments in determining the scope of the EIS/OEIS.

DATES: Three public scoping meetings, using an open-house format, will be held on the following dates and locations in the CNMI:

• Wednesday, April 10, 2013, 5:00 p.m. to 8:00 p.m., Dandan Elementary School Cafeteria, Dandan Road, Dandan, Saipan, CNMI 96960

• Thursday, April 11, 2013, 4:00 p.m. to 7:00 p.m., Tinian Gym, San Jose, Tinian, CNMI 96950

• Friday, April 12, 2013, 5:00 p.m. to 8:00 p.m., Carolinian Utt, Garapan, Saipan, CNMI 96960

Concurrent with the NEPA process, MARFORPAC is initiating National Historic Preservation Act Section 106 Consultation to determine the potential effects of the proposed action on historic properties. During each of the above meetings, MARFORPAC will hold Section 106 meetings in a separate area where subject matter experts will explain the Section 106 process and solicit public input on the identification of historic properties and potential effects of the proposed action on historic properties.

Comments on the proposed action and preliminary alternatives may be submitted during the 45-day public scoping comment period. Comments should be postmarked or received by April 29, 2013, Chamorro Standard Time (ChST). There are three ways to submit written comments: (1) providing comments at one of the public scoping meetings; (2) submitting comments through the project Web site: www.cnmijointmilitarytrainingeis.com; and (3) mailing comments to the following address: Naval Facilities Engineering Command, Pacific, Attn: EV21, CNMI Joint Military Training EIS/OEIS Project Manager, 258 Makalapa Drive, Suite 100, JBPHH, HI 96860-3134.

FOR FURTHER INFORMATION CONTACT: Please visit the project Web site or contact the CNMI Joint Military Training EIS/OEIS Project Manager by telephone at 808-472-1253 or by email via the project Web site. Please submit requests for special assistance, sign language interpretation for the hearing impaired, or other auxiliary aids needed at the public scoping open house to the Project Manager by March 25, 2013.

SUPPLEMENTARY INFORMATION: The U.S. military is charged with upholding the U.S. Constitution, defending the United States from all enemies foreign and domestic, and honoring commitments made in treaties and other international agreements. In particular, five of the seven treaties of mutual defense involve the Western Pacific. In order to accomplish these missions, Title 10 of the U.S.C. requires the Services to maintain, train, and equip combat-ready forces capable of winning wars, deterring aggression, and maintaining freedom of the seas. Modern warfare and security operations are complex undertakings, and U.S. military personnel must train regularly to maintain the necessary skills required to accomplish their constitutional and statutory mandates.

Beginning in 2009 with the Institute for Defense Analyses' (IDA) “Department of Defense Training in the Pacific Study,” and culminating in the January 2013 DoN Commonwealth of the Northern Mariana Islands Joint Military Training Requirements and Siting Study (RSS), DoD has documented joint military training deficiencies throughout the PACOM Area of Responsibility (AOR), and specifically within the CNMI. The 2009 IDA Study examined training capabilities utilized by the DoD in the PACOM AOR and concluded that current training deficiencies exist. The IDA study examined several potential solutions and concluded that the Mariana Islands' strategic location in the PACOM AOR makes these islands a prime location to support forces throughout the AOR. The IDA Study recommended that planning be initiated to analyze the ability to construct new, or expand existing training capabilities and support facilities in the Mariana Islands.

The need for joint service training in the Western Pacific was also recognized in the 2010 Quadrennial Defense Review (QDR). Specifically, the QDR concluded that the U.S. should develop additional training capabilities for joint and combined forces in the Western Pacific to assure readiness of U.S. forces to carry out military operations as well as humanitarian assistance, disaster relief, and maritime security. Furthermore, the QDR found that the available land within U.S. jurisdiction in the Pacific provided the potential for leveraging U.S. engagement with allied and partner militaries to build multilateral security relationships and operational capacity among the countries of the region.

The April 2012 DoN Training Needs Assessment: An Assessment of Current Training Ranges and Supporting Facilities in the U.S. Pacific Command Area of Responsibility further examined training deficiencies in the Western Pacific by dividing the PACOM AOR into four independent geographic areas or “hubs” representing the largest concentrations of U.S. forces: Japan (including Okinawa), Korea, Hawaii, and the Mariana Islands (Guam/CNMI). The assessment confirmed the earlier findings that the greatest number of training deficiencies exists in the Mariana Islands hub. The CNMI's criticality to providing an environment for joint training and stabilizing influence in the PACOM AOR was specifically mentioned in the April 2012 2+2 Statement between Japan and the U.S. wherein both nations expressed a keen desire to improve training capabilities in the CNMI.

The January 2013 RSS continued the analysis by focusing on those deficiencies found in the Mariana Islands and specifically in the CNMI. Service training operates on a crawl-walk-run continuum progressing from individual skills, to unit level to combined level training. The majority of individual skills training will be accomplished outside of the CNMI. The 42 unfilled training requirements documented in the January 2013 RSS are for unit level and combined level training. Unit level training consists of troops with similar military occupational specialties training on both live-fire and maneuver ranges to develop the skills necessary for the unit to carry out its mission. Combined level arms training brings several units together working as a team towards a single objective. Combined level training also involves maneuver and use of live-fire ranges and training areas; however, because of the greater number of units and tasks, this training requires larger areas. Because of the nature of unit and combined level training, along with the frequency of this training, separate range complexes are required to support each type of training.

The RSS further defined and developed the purpose and need for the proposed action of improving military training capabilities; refined and applied operational siting criteria for assessing preliminary alternatives within the CNMI; and applied those criteria to potential candidate locations within the CNMI in order to meet PACOM Service Components' unfilled training requirements. Of the 14 CNMI islands, the RSS found that only Tinian and Pagan are capable of meeting unit level and combined level screening criteria, and could potentially satisfy most of the unfilled training requirements for the CNMI. Neither Tinian nor Pagan can support all identified unfilled training requirements alone; however, in combination they present a variety of preliminary alternative RTA configurations.

Preliminary Alternatives: As part of this scoping effort, MARFORPAC has developed preliminary alternatives on the islands of Tinian and Pagan to meet the requisite training capabilities and capacity. The EIS/OEIS will also consider any other reasonable alternatives that are identified during the scoping period. MARFORPAC seeks to minimize impacts to non-DoD lands and the environment by establishing multi-purpose ranges with overlapping impact areas and surface danger zones, where possible, on existing DoD-controlled lands.

Preliminary alternatives are the improvement, development, and use of existing and new military training areas on the islands of Tinian and Pagan, to include surrounding U.S. and international water and airspace. With regards to Tinian, preliminary alternatives for unit level training consider laydowns with and without relocating the IBB Voice of America facility. To date, all Tinian preliminary alternatives require the use of all military leased land, including that which has been leased-back to the CNMI government for agricultural uses. For Pagan, all the preliminary alternatives for combined-level training propose using the entire island for military purposes.

Special use airspace will be needed over any island proposed for RTAs and MARFORPAC, as Executive Agent, will seek designation of such airspace in coordination with FAA once a Record of Decision has been completed for the EIS/OEIS. In addition, maritime danger zones may be required along the coastlines adjacent to DoD-controlled property.

Under the No Action Alternative, the proposed RTAs would not be constructed on the islands of Tinian and Pagan. The identified training deficit would persist and the existing Western Pacific RTAs would remain insufficient to support PACOM Service Components' Title 10 training requirements for the region. The No Action Alternative would continue current training activities, which include limited non-tactical live-fire and other non-live fire training, including amphibious warfare and urban warfare activities that are currently approved by DoD Service Components on Tinian and Pagan, as well as the other approved existing RTAs within the CNMI, as well as development of the four ranges on Tinian that were the subject of the 2010 Guam EIS Record of Decision. The No Action Alternative does not meet the purpose and need of the proposed action.

Environmental Issues and Resources To Be Examined: After scoping is complete, the EIS/OEIS analysis will evaluate potential environmental impacts associated with each alternative selected for full analysis. Issues to be addressed include, but are not limited to, noise, cultural resources, transportation, utilities, socioeconomics, biological resources, geology and soils, water quality, air quality, airspace, land use, recreation, safety, hazardous materials and waste, visual resources, and environmental justice.

Resources, activities, and issues identified through the scoping process will be considered in the EIS/OEIS. The analysis will include an evaluation of direct and indirect impacts and will account for cumulative impacts from other relevant past, present and reasonably foreseeable future actions in the Mariana Islands.

Agency Consultations: MARFORPAC, as Executive Agent, will undertake appropriate consultations with regulatory entities pursuant to the Endangered Species Act, National Historic Preservation Act, Coastal Zone Management Act, Clean Water Act, and other applicable laws or regulations. Consultation may include, but will not be limited to, the following federal, state, and local agencies: U.S. Fish and Wildlife Service, National Marine Fisheries Service, the U.S. Army Corps of Engineers, National Park Service, CNMI Historic Preservation Office, and the CNMI Coastal Resources Management Office.

Schedule: This NOI initiates a 45-day scoping comment period to identify issues to be addressed in the EIS/OEIS and reasonable and feasible alternatives to implement the proposed action. The next step in the NEPA process occurs with publication of a Notice of Availability (NOA) in the Federal Register and local media, announcing release of the Draft EIS/OEIS and commencement of a 45-day public comment period. A notice will be published in local newspapers to advertise public scoping meetings for the project during the 45-day comment period. MARFORPAC, as the Executive Agent, will consider and respond to all comments received on the Draft EIS/OEIS when preparing the Final EIS/OEIS. MARFORPAC, as the Executive Agent, intends to issue the Final EIS/OEIS in late 2015, at which time an NOA will be published in the Federal Register and local media. The NOA will initiate a 30-day waiting period, after which the Assistant Secretary of the Navy will issue a Record of Decision.

Dated: March 8, 2013.
C.K. Chiappetta,
Lieutenant Commander, Office of the Judge Advocate General, U.S. Navy, Federal Register Liaison Officer.

[FR Doc. 2013-05837 Filed 3-13-13; 8:45 am]

BILLING CODE 3810-FF-P